DEPARTMENT OF COMMERCE

National Oceanic and Atmospheric Administration

[I.D. 022405A]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 126th meeting to consider and take actions on fishery management issues in the Western Pacific Region.

DATES: The 126th Council meeting and public hearings will be held on March 14-17, 2005. For specific times, and the agenda, see SUPPLEMENTARY INFORMATION.

ADDRESSES: The 126th Council meeting and public hearings will be held at the Ala Moana Hotel,410 Atkinson Drive, Honolulu, HI; telephone: 808-955-4811.

FOR FURTHER INFORMATION CONTACT: Kitty M. Simonds, Executive Director; telephone: (808)522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Monday, March 14, 2005

1. 8a.m. - 10 a.m. - Enforcement/Vessel Monitoring Systems Standing Committee

2. 8 a.m. - 10 a.m. - Ecosystem and Habitat Standing Committee

3. 10 a.m. - Noon - Pelagic and International Standing Committee

4. 10 a.m. - Noon - Bottomfish Standing Committee

5. 1:30 p.m. - 3:30 p.m. - Precious Corals/Crustaceans Standing Committee

6. 1:30 p.m. - 3:30 p.m. - Indigenous Rights Standing Committee

7. 3:30 p.m. - 5 p.m. - Executive/Budget and Program Standing Committee

Schedule and Agenda for Public Hearings

Tuesday, March 15, 2005

4:30 p.m. - 5 p.m. - Bigeye Overfishing Plan

The Council will consider management action on overfishing occurring on Pacific bigeye stocks.

6:30 p.m. - 9 p.m. - Council action considered on Northwestern Hawaiian Islands (NWHI) Sanctuary Fishing Regulations for NWHI bottomfish, crustacean, precious coral, pelagic and coral reef ecosystem fisheries, pursuant to the proposed designation of the NWHI Coral Reef Ecosystem Reserve as a national marine sanctuary.

Wednesday, March 16, 2005

9:45 a.m. - 10 a.m. - Council action considered on measures to manage Commonwealth of the Northern Mariana Islands (CNMI) bottomfish.

4:30 p.m. - 5 p.m. - Council action considered on NWHI Sanctuary Fishing Regulations for NWHI bottomfish, crustacean, precious coral, pelagic and coral reef ecosystem fisheries, pursuant to the proposed designation of the NWHI Coral Reef Ecosystem Reserve as a national marine sanctuary.

The agenda during the full Council meeting will include the items listed here.

For more information on public hearing items, see Background Information.

Schedule and Agenda for Council Meeting

Tuesday, March 14, 2005, 8:30 a.m - 5 p.m.

1. Introductions

2. Approval of agenda

3. Approval of 124th and 125th meeting minutes

4. Island reports

A. American Samoa

B. Guam

C. Hawaii

D. CNMI

5. Reports from fishery agencies and organizations

A. Department of Commerce

a. NMFS

i. Pacific Islands Regional Office

ii. Pacific Islands Fisheries Science Center

b. National Marine Sanctuary Program

i. Pacific Sanctuaries update

c. NOAA General Counsel Southwest Region/Pacific Islands Region

B. The Department of the Interior - The U.S. Fish and Wildlife Service (USFWS)

C. State Department

D. Report from non-governmental organizations

6. Enforcement/vessel monitoring systems

A. US Coast Guard activities

B. NOAA Office of Law Enforcement (OLE) Activities

B.1 OLE Report

C. Enforcement Activities of Local Agencies

D. Status of Violations

E. Hawaii Shallow-set Operational Plan

F. American Samoa Limited Entry Program

G. Bottomfish Fishery Permits and Reporting Requirements

H. Update on Electronic Logbooks Amendment

7. Pelagic Fisheries (Domestic and International)

A. Bigeye Overfishing Plan (ACTION ITEM)

B. Institutional Arrangements for Pelagic Management in the Western Central Pacific Ocean

C. American Samoa & Hawaii Longline Fisheries

1. 2004 Third and Fourth Quarter Reports

2. Shallow-set longline definition

3. Proposed changes to Hawaii-based longline fishery closed area

D. International Issues

1. Prepatory Conference 7/Western and Central Pacific Fishery Management Commission 1

2. FAO Technical Consultation on Turtles

3. FAO/COFI

4. Sea Turtle Mitigation

5. International Fishers Forum 3

E. Recreational Fisheries

1. Hawaii Marine Recreational Fishing Survey Workshop

F. Pelagic Ecosystem Modeling

G. Sea Turtles

1. Biological Opinions and Section 10 Permits

2. Results from First Year of Conservation Measures

3. Vision for the Future

4. Second Turtle Advisory Committee Meeting

5. Report on Loggerhead Workshop

6. Report on Baysian Belief Network Workshop

7. 25th Annual Sea Turtle Symposium

H. Marine Mammal issues

I. Petition to List Black-footed Albatrosses Under the Endangered Species Act

8. Observer programs

A. Report on the NWHI bottomfish observer program

B. Report on the native observer program

C. Report on the Hawaii longline observer program

D. Report on the American Samoa observer program

9. Insular Fisheries

A. Bottomfish Fisheries

1. CNMI Bottomfish Management (ACTION ITEM)

2. Bottomfish Final Environmental Impact Statement (EIS)

3. Status of Guam's 50/50 Measure

B. Precious Coral Fisheries

1. Update on Black Coral ResearchTony Montgomery

2. Precious Corals Draft EIS

C. Crustaceans Fisheries

1. Update on Crustaceans Research

2. Crustaceans Draft EIS

D. Ecosystems and Habitat

1. NWHI Sanctuary Fishing Regulations (ACTION ITEM)

a. Process and Alternatives

b. Impact Analyses

c. Report on Public Meetings

2. NWHI Science Symposium Report

3. Hawaiian Archipelago Research Program Update

4. Status of NWHI Reserve and Sanctuary Designation

5. Ecosystem Based Fishery Management

a. Update on Ecosystem Research

b. Update on NOAA Ecosystem Research Review Panel

c. Update on Council Ecosystem Workshop

d. Update on Mariana Archipelago FEP Pilot Project

e. Update on Programmatic EIS for FEPs

6. Shark Viewing

7. Coral Reef Plan Team Recommendations

10. Fishery Rights of Indigenous Peoples

A. Community Demonstration Projects Program

1. First Solicitation Reports

a. Paepae He`ei`a Kea Project

b. Moloka`i Aku Fishing Training Project

2. Second Solicitation Report

3. Third Solicitation Report

B. Update on Guam Community Development Program

C. FAO/Secretariat of the Pacific Community/Council Coastal Fishery Management Workshop

D. American Samoa Marine Conservation Plan

11. Program Planning and Budget

A. Update on Legislation

B. Status of Hawaii $5 Million Disaster Funds for Federal Fisheries

C. Building Community Networks

D. WPacFIN

E. National Environmental Policy Act Activities

F. Programmatic Grants Report

G. Administration Response to the Ocean Commission Report

H. Marine Debris Disposal Facility Project

12. Administrative Matters

A. Financial Reports

B. Administrative Report

C. Meetings and Workshops

D. Advisory Group Changes

1. Scientific and Statistical Committee changes

2. Advisory Panel Changes

3. Plan Team Changes

4. Working Group Changes

13. Other Business

Background Information

1. Bigeye Overfishing Plan

In December 2004, the Western Pacific and Pacific Councils were officially notified by the National Marine Fisheries Service, on behalf of the Secretary of Commerce, that overfishing is occurring on bigeye tuna in the Pacific. As required by the Magnuson-Stevens Act (16 U.S.C. 1854 (e)(3)) and the implementing regulations at 50 CFR 600.310(e)(3), the Councils must take action to address overfishing within one year of an identification by the Secretary that overfishing is occurring. The overfishing determination was made in the annual report on the status of fisheries in 2003, which was transmitted to Congress on June 15, 2004, which means that the Council has until June 14, 2005 in which to take remedial action to end overfishing.

The Council asked the Pelagics Plan Team to hold a meeting on February 10th, in order to provide the SSC with its deliberations and recommendations on possible courses of action that appropriately might reduce total fishing mortality on bigeye tuna. The Pelagics Plan Team reviewed all the relevant materials, including a summary from the third meeting of the Scientific Coordinating Group of the Western & Central Pacific Management Fishery Commission on the feasibility of scientific analysis for different management measures for Pacific bigeye tuna. The SSC will be presented with the results of these deliberations and the recommendations that were formulated by the Pelagics Plan Team. The SSC will review these recommendations and may provide the Council with its own recommendations on the alternatives for the Council to address the overfishing of Pacific bigeye tuna

2. CNMI Bottomfish Management Amendment (Final Action)

A public hearing will be held to solicit comments on alternatives to manage the bottomfish fishery around the CNMI. Based on comments received during public scoping meetings held in CNMI, the Council developed preliminary options including limiting the harvest of bottomfish, reporting requirements, establishing area closures, gear and vessel restrictions, and other control measures expressed by the public during the scoping meetings. At its 124nd meeting, the Council endorsed a recommendation to allow CNMI Division of Fish and Wildlife to take the range of alternatives to the CNMI public for additional comment. At the 126th meeting, the Council may take final action on a preferred alternative and direct staff to finalize an amendment to the Bottomfish FMP for regulatory action.

3. Final Action on NWHI Sanctuary Alternatives

A Public hearing will be held to solicit public comments on alternatives to prepare draft fishing regulations for the proposed NWHI Sanctuary. The National Marine Sanctuaries Amendment Act of 2000 (NMSA) and Executive Orders 13178 and 13196 direct the Secretary of Commerce to initiate the process to designate the Northwestern Hawaiian Islands Coral Reef Ecosystem Reserve as a National Marine Sanctuary. Pursuant to Section 304(a)(5) of the NMSA, the Council is provided with the opportunity to prepare draft fishing regulations for the proposed sanctuary as the Council may deem necessary to implement the proposed designation. Draft fishing regulations prepared by the Council shall be accepted by the Secretary of Commerce and issued as proposed regulations if they fulfill the purpose and policies of the NMSA and the goals and objectives of the proposed designation.

On September 20, 2004, the National Marine Sanctuaries Program (NMSP) formally provided the Council the opportunity to prepare draft fishing regulations pursuant to Section 304(a)(5) of the NMSA and also provided the Council with the goals and objectives for the proposed designation.

Although not required by the NMSA, the Council held a series of public hearings on Oahu, Kauai, Maui and the Island of Hawaii to gather public input and comments on a range of fishing alternatives the Council is considering in preparing draft fishing regulations for the proposed designation. The alternatives currently being considered by the Council are: (1A) Existing FMP regulations Status Quo; (1B) Coral Reef Ecosystem Reserve Status Quo; (2) Council Recommendations to Date; (3) Precautionary Modification 1; (4) Precautionary Modification 2; (5) Sanctuary Recommendation; and (6) Prohibit All Bottomfishing in Federal waters around Hawaii A full description of the alternatives is available at www.wpcouncil.org.

The Council will review these alternatives and their potential impacts. Following the public hearing, the Council may take action to recommend a preferred alternative and associated regulations to the NMSP.

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808)522-8220 (voice) or (808)522-8226 (fax), at least 5 days prior to the meeting date.

Authority: 16 U.S.C. 1801 et seq.

Dated: February 24, 2005.
Peter H. Fricke,
Acting Director, Office of Sustainable Fisheries, National Marine Fisheries Service.

[FR Doc. 05-3944 Filed 2-28-05; 8:45 am]

BILLING CODE 3510-22-S